DEPARTMENT OF THE INTERIOR

Bureau of Land Management

[ID-933-1430-ET; DK-G06-0007; IDI-14893]

Public Land Order No. 7677; Partial Revocation of Secretarial Order dated November 17, 1903, Idaho

AGENCY: Bureau of Land Management, Interior.

ACTION: Public land order.

SUMMARY: This order partially revokes a Secretarial Order insofar as it affects 124.70 acres, more or less, of public lands withdrawn for use by the Bureau of Reclamation for the Boise River Reservoir Project. The lands are no longer needed for reclamation purposes.

DATES: Effective Date: July 27, 2007.

FOR FURTHER INFORMATION CONTACT: Jackie Simmons, BLM, Idaho State Office, 1387 S. Vinnell Way, Boise, Idaho 83709, 208-373-3867.

SUPPLEMENTARY INFORMATION: The Bureau of Reclamation and Bureau of Land Management have determined that the withdrawal is no longer needed to protect the lands described below. The lands will remain closed to surface entry and mining until a planning review and analysis is completed to determine the best use of the lands.

Order

By virtue of the authority vested in the Secretary of the Interior by Section 204 of the Federal Land Policy and Management Act of 1976, 43 U.S.C. 1714 (2000), it is ordered as follows:

1. The Secretarial Order dated November 17, 1903, which segregated lands for the Bureau of Reclamation's Boise River Reservoir Project, is hereby revoked insofar as it affects the following described lands:

Boise Meridian

T. 2 N., R. 3 E.,

Sec. 3, lots 5 to 8, inclusive.

The areas described aggregate 124.70 acres, more or less, in Ada County.

Dated: June 1, 2007.
C. Stephen Allred,
Assistant Secretary—Land and Minerals Management.

[FR Doc. E7-12375 Filed 6-26-07; 8:45 am]

BILLING CODE 4310-GG-P